DEPARTMENT OF TRANSPORTATION

Federal Railroad Administration

Positive Train Control Regulations About Emergency Rerouting

AGENCY: Federal Railroad Administration (FRA), Department of Transportation (DOT).

ACTION: Notice.

SUMMARY: The purpose of this notice is to inform the public about FRA's regulations permitting railroads to temporarily reroute a train equipped with a positive train control (PTC) system onto a track not equipped with a PTC system, in the event an emergency prevents usage of the regularly used track. This notice contains information about the process a railroad must follow to notify FRA and/or obtain FRA's approval, depending on the duration of the rerouting.

FOR FURTHER INFORMATION CONTACT: For technical questions, please contact Gabe Neal, Staff Director, Signal, Train Control, and Crossings Division, telephone: 816-516-7168, email: Gabe.Neal@dot.gov. For legal questions, please contact Stephanie Anderson, Attorney Adviser, telephone: 202-834-0609, email: Stephanie.Anderson@dot.gov.

SUPPLEMENTARY INFORMATION: By law, PTC systems must govern operations on PTC-mandated main lines, which currently encompass approximately 58,000 route miles, and include Class I railroads' main lines over which poison- or toxic-by-inhalation hazardous materials are transported and any railroads' main lines over which intercity or commuter rail passenger transportation is regularly provided.¹

¹ Title 49 United States Code (U.S.C.) 20157; title 49 Code of Federal Regulations (CFR) 236.1005(b), 236.1006(a). This requirement does not apply, however, to a railroad's controlling locomotives that are subject to either a temporary or permanent exception under 49 U.S.C. 20157(j)-(k) or 49 CFR 236.1006(b).

FRA's PTC regulations recognize, however, that certain emergencies—including events such as a derailment, flood, fire, tornado, hurricane, earthquake, or other similar circumstance outside of the railroad's control—may occur and prevent usage of the regularly used track. Specifically, 49 CFR 236.1005(g)(1) enables railroads to temporarily reroute PTC-equipped trains onto track not equipped with a PTC system, in the event an emergency prevents usage of the regularly used track.

Pursuant to 49 CFR 236.1005(g)(1)(ii) and 236.1005(i), a railroad must provide written or telephonic notification to FRA of the following information within one business day of the beginning of the emergency rerouting:

(1) The dates that such temporary rerouting will occur;

(2) The number and types of trains that will be rerouted;

(3) The location of the affected tracks; and

(4) A description of the necessity for the temporary rerouting.

FRA's PTC regulations specify that a railroad may reroute traffic only until the emergency condition ceases to exist and for no more than 14 consecutive calendar days, unless otherwise extended by approval from FRA's Associate Administrator for Railroad Safety (Associate Administrator).

In 2023, multiple railroads have requested FRA's approval to continue the emergency rerouting beyond 14 consecutive calendar days. FRA reminds railroads to submit their extension requests as soon as possible, well before the initial 14-day period of emergency rerouting lapses, to ensure FRA has sufficient time to evaluate the railroad's request and issue its decision to the railroad.

During all phases of emergency rerouting, including during the initial 14 consecutive calendar days and beyond, a railroad must comply with the rerouting conditions under 49 CFR 236.1005(j), as § 236.1005(g)(1)(iii) requires. For example, § 236.1005(j) specifies that an unequipped train must be “operated in accordance with § 236.1029” (including the applicable speed restrictions) if the train is rerouted to a PTC-equipped track. If any train is rerouted to a track not equipped with a PTC system, the train must be “operated in accordance with the operating rules applicable to the line on which the train is rerouted.” 49 CFR 236.1005(j).

FRA remains available to provide technical assistance to railroads about the emergency rerouting provisions in FRA's regulations, at 49 CFR 236.1005(g)(1), (i), and (j) and summarized above. FRA appreciates railroads' commitment to operating their FRA-certified, interoperable PTC systems on PTC-mandated main lines, as generally required by law, outside the special, limited circumstances outlined in FRA's regulations.

Issued in Washington, DC.
Carolyn R. Hayward-Williams,
Director, Office of Railroad Systems and Technology.

[FR Doc. 2023-21855 Filed 10-2-23; 8:45 am]

BILLING CODE 4910-06-P